POSTAL SERVICE

39 CFR Part 20

Global Express Guaranteed: Changes in Postal Rates

AGENCY: Postal Service.

ACTION: Interim rule with request for comment.

SUMMARY: The Postal Service is changing the rates for Global Express Guaranteed (GXG) Document service and Global Express Guaranteed Non-Document service and announcing the inclusion of GXG in the current U.S. Postal Service collection pickup service.

EFFECTIVE DATE: The effective date will be concurrent with the effective date for the new domestic rates, tentatively set for January 7, 2001. Comments on the interim rule must be received on or before January 6, 2001.

ADDRESSES: Written comments should be mailed or delivered to Business Initiatives, Expedited/Package Services, U.S. Postal Service, 200 E. Mansell Court, Suite 300, Roswell, GA 30076-4850. Copies of all written comments will be available for public inspection between 9 a.m. and 4 p.m., Monday through Friday, in the Expedited/Package Services office, 200 E. Mansell Court, Suite 300, Roswell, GA.

FOR FURTHER INFORMATION CONTACT: Malcolm E. Hunt, 770-360-1104.

SUPPLEMENTARY INFORMATION: Global Express Guaranteed is the U.S. Postal Service's premium international mail service. GXG is an expedited delivery service that is the product of a business alliance between the U.S. Postal Service and DHL Worldwide Express, Inc. It provides time-definite service from designated U.S. ZIP Code areas to locations in over 200 destination countries and territories. Global Express Guaranteed consists of two mail classifications: Global Express Guaranteed Document Service and Global Express Guaranteed Non-Document Service. Regulations for Global Express Guaranteed service are currently set forth in section 215 of the International Mail Manual (IMM). These regulations were moved to IMM 210 pursuant to the notice published in the Federal Register on September 26, 2000. Numerous and successive expansions and changes to the service have been listed in previous Federal Register notices and are summarized in the final rule, which will be published in early December.

The Postal Service is changing the rates for Global Express Guaranteed service and is announcing the inclusion of this service in the current collection pickup service. The revised set of rates, set forth below, is based on experience gained with providing the service and more accurately reflects the actual costs of providing this service across the various rate groups. Additionally, the rate lanes for the Global Express Guaranteed Non-Document service are changed to an alpha character designation for clarity between the Document and Non-Document services.

Although the Postal Service is exempted by 39 U.S.C. 410(a) from the advance notice requirements of the Administrative Procedure Act regarding proposed rulemaking (5 U.S.C. 553), the Postal Service invites public comment on the interim rule at the above address.

The Postal Service is implementing the following rates and amending the International Mail Manual, which is incorporated by reference in the Code of Federal Regulations. See 39 CFR 20.1.

List of Subjects in 39 CFR Part 20

Foreign relations, International postal services.

PART 20—[AMENDED]

1. The authority citation for 39 CFR Part 20 continues to read as follows:

Authority: 5 U.S.C. 552(a); 39 U.S.C. 401, 404, 407, 408.

2. Chapter 2 of the International Mail Manual is amended as follows to provide for the new rates and to include pickup service:

2 CONDITIONS FOR MAILING

* * * * *

210 Global Express Guaranteed

* * * * *

213.2 Destination Countries and Rate Groups

[The Individual Country Listings for Global Express Guaranteed (GXG) service rates will be amended to reflect the rate changes.]

213.3 Pickup Service

Collection service pickup is available for delivery addresses within the participating Global Express Guaranteed ZIP Codes. GXG collection service will be provided when a postal employee goes to a customer's location specifically to deliver or collect mail other than Global Express Guaranteed shipments and the employee is handed a Global Express Guaranteed shipment in addition to other mail to be collected. No pickup fee will be charged when Global Express Guaranteed shipments are picked up during a delivery stop or during a scheduled stop made to collect other mail not subject to a pickup fee. On-call or scheduled pickup services are currently not available for GXG Service.

* * * * *

216.1 Document Service Rates/Groups

Weight not over (lbs.) | Rate group 1 | Rate group 2 | Rate group 3 | Rate group 4
0.5 | 24.00 | 25.00 | 32.00 | 32.00
1 | 33.00 | 34.00 | 39.00 | 45.00
2 | 38.00 | 40.00 | 46.00 | 52.00
3 | 40.00 | 46.00 | 53.00 | 59.00
4 | 43.00 | 50.00 | 60.00 | 66.00
5 | 46.00 | 55.00 | 67.00 | 73.00
6 | 48.00 | 58.00 | 72.00 | 80.00
7 | 51.00 | 61.00 | 76.00 | 86.00
8 | 53.00 | 65.00 | 80.00 | 93.00
9 | 55.00 | 68.00 | 85.00 | 100.00
10 | 58.00 | 70.00 | 89.00 | 104.00
11 | 60.00 | 73.00 | 92.00 | 109.00
12 | 62.00 | 76.00 | 96.00 | 115.00
13 | 65.00 | 79.00 | 99.00 | 120.00
14 | 67.00 | 81.00 | 103.00 | 125.00
15 | 69.00 | 84.00 | 106.00 | 130.00
16 | 72.00 | 87.00 | 109.00 | 136.00
17 | 74.00 | 89.00 | 113.00 | 141.00
18 | 76.00 | 92.00 | 116.00 | 146.00
19 | 79.00 | 95.00 | 120.00 | 151.00
20 | 81.00 | 97.00 | 123.00 | 156.00
21 | 83.00 | 100.00 | 126.00 | 161.00
22 | 85.00 | 102.00 | 130.00 | 166.00
23 | 87.00 | 105.00 | 133.00 | 171.00
24 | 90.00 | 108.00 | 137.00 | 176.00
25 | 92.00 | 110.00 | 140.00 | 181.00
26 | 94.00 | 113.00 | 143.00 | 186.00
27 | 96.00 | 115.00 | 147.00 | 190.00
28 | 98.00 | 118.00 | 150.00 | 195.00
29 | 100.00 | 120.00 | 153.00 | 200.00
30 | 103.00 | 124.00 | 158.00 | 207.00
31 | 105.00 | 127.00 | 162.00 | 212.00
32 | 107.00 | 129.00 | 165.00 | 217.00
33 | 109.00 | 131.00 | 169.00 | 222.00
34 | 112.00 | 132.00 | 172.00 | 227.00
35 | 114.00 | 134.00 | 175.00 | 232.00
36 | 116.00 | 136.00 | 179.00 | 236.00
37 | 118.00 | 138.00 | 182.00 | 241.00
38 | 120.00 | 140.00 | 186.00 | 246.00
39 | 122.00 | 142.00 | 189.00 | 251.00
40 | 124.00 | 144.00 | 192.00 | 256.00
41 | 126.00 | 146.00 | 196.00 | 261.00
42 | 130.00 | 148.00 | 199.00 | 266.00
43 | 132.00 | 150.00 | 203.00 | 271.00
44 | 134.00 | 151.00 | 206.00 | 276.00
45 | 137.00 | 153.00 | 210.00 | 280.00
46 | 139.00 | 155.00 | 213.00 | 285.00
47 | 141.00 | 156.00 | 216.00 | 290.00
48 | 143.00 | 158.00 | 220.00 | 295.00
49 | 146.00 | 160.00 | 223.00 | 300.00
50 | 148.00 | 163.00 | 229.00 | 308.00
51 | 152.00 | 165.00 | 232.00 | 313.00
52 | 154.00 | 167.00 | 236.00 | 318.00
53 | 156.00 | 169.00 | 239.00 | 323.00
54 | 159.00 | 170.00 | 243.00 | 328.00
55 | 160.00 | 172.00 | 246.00 | 333.00
56 | 162.00 | 173.00 | 250.00 | 338.00
57 | 163.00 | 175.00 | 253.00 | 343.00
58 | 164.00 | 176.00 | 256.00 | 348.00
59 | 166.00 | 178.00 | 260.00 | 353.00
60 | 167.00 | 180.00 | 263.00 | 358.00
61 | 169.00 | 181.00 | 267.00 | 363.00
62 | 170.00 | 182.00 | 270.00 | 367.00
63 | 171.00 | 184.00 | 274.00 | 372.00
64 | 172.00 | 185.00 | 277.00 | 377.00
65 | 173.00 | 187.00 | 281.00 | 382.00
66 | 174.00 | 188.00 | 284.00 | 387.00
67 | 175.00 | 190.00 | 287.00 | 392.00
68 | 176.00 | 192.00 | 291.00 | 397.00
69 | 177.00 | 193.00 | 294.00 | 402.00
70 | 178.00 | 194.00 | 298.00 | 407.00

Weight not over (lbs.) | Rate group 5 | Rate group 6 | Rate group 7 | Rate group 8
0.5 | 45.00 | 33.00 | 34.00 | 65.00
1 | 52.00 | 47.00 | 46.00 | 75.00
2 | 65.00 | 55.00 | 52.00 | 89.00
3 | 79.00 | 62.00 | 60.00 | 101.00
4 | 93.00 | 68.00 | 68.00 | 112.00
5 | 106.00 | 75.00 | 75.00 | 124.00
6 | 119.00 | 80.00 | 82.00 | 136.00
7 | 131.00 | 86.00 | 89.00 | 148.00
8 | 143.00 | 91.00 | 96.00 | 160.00
9 | 156.00 | 96.00 | 103.00 | 172.00
10 | 165.00 | 102.00 | 110.00 | 180.00
11 | 175.00 | 105.00 | 116.00 | 191.00
12 | 185.00 | 109.00 | 122.00 | 203.00
13 | 195.00 | 113.00 | 127.00 | 215.00
14 | 205.00 | 117.00 | 132.00 | 226.00
15 | 214.00 | 121.00 | 137.00 | 238.00
16 | 223.00 | 125.00 | 142.00 | 249.00
17 | 231.00 | 129.00 | 147.00 | 260.00
18 | 238.00 | 133.00 | 153.00 | 271.00
19 | 246.00 | 137.00 | 159.00 | 282.00
20 | 253.00 | 141.00 | 165.00 | 293.00
21 | 260.00 | 144.00 | 171.00 | 302.00
22 | 268.00 | 148.00 | 176.00 | 311.00
23 | 275.00 | 152.00 | 181.00 | 318.00
24 | 283.00 | 156.00 | 186.00 | 325.00
25 | 290.00 | 160.00 | 191.00 | 333.00
26 | 298.00 | 164.00 | 196.00 | 340.00
27 | 305.00 | 168.00 | 201.00 | 347.00
28 | 313.00 | 172.00 | 206.00 | 355.00
29 | 320.00 | 176.00 | 211.00 | 362.00
30 | 331.00 | 182.00 | 216.00 | 373.00
31 | 338.00 | 186.00 | 221.00 | 381.00
32 | 346.00 | 190.00 | 226.00 | 388.00
33 | 353.00 | 194.00 | 231.00 | 396.00
34 | 361.00 | 198.00 | 236.00 | 403.00
35 | 369.00 | 202.00 | 241.00 | 411.00
36 | 376.00 | 206.00 | 246.00 | 418.00
37 | 384.00 | 210.00 | 251.00 | 426.00
38 | 391.00 | 214.00 | 256.00 | 433.00
39 | 398.00 | 218.00 | 261.00 | 440.00
40 | 404.00 | 222.00 | 266.00 | 448.00
41 | 411.00 | 226.00 | 271.00 | 455.00
42 | 418.00 | 230.00 | 276.00 | 463.00
43 | 425.00 | 234.00 | 281.00 | 470.00
44 | 432.00 | 238.00 | 286.00 | 478.00
45 | 439.00 | 242.00 | 291.00 | 485.00
46 | 446.00 | 246.00 | 296.00 | 492.00
47 | 452.00 | 250.00 | 301.00 | 500.00
48 | 459.00 | 254.00 | 306.00 | 507.00
49 | 466.00 | 258.00 | 311.00 | 515.00
50 | 478.00 | 264.00 | 316.00 | 528.00
51 | 485.00 | 264.00 | 321.00 | 543.00
52 | 492.00 | 272.00 | 326.00 | 543.00
53 | 499.00 | 276.00 | 331.00 | 559.00
54 | 506.00 | 280.00 | 336.00 | 559.00
55 | 513.00 | 283.00 | 341.00 | 572.00
56 | 520.00 | 288.00 | 346.00 | 572.00
57 | 527.00 | 291.00 | 351.00 | 584.00
58 | 533.00 | 296.00 | 356.00 | 584.00
59 | 540.00 | 299.00 | 361.00 | 597.00
60 | 547.00 | 304.00 | 366.00 | 597.00
61 | 554.00 | 307.00 | 371.00 | 612.00
62 | 560.00 | 313.00 | 376.00 | 612.00
63 | 568.00 | 315.00 | 381.00 | 627.00
64 | 571.00 | 321.00 | 386.00 | 627.00
65 | 582.00 | 323.00 | 391.00 | 642.00
66 | 582.00 | 329.00 | 396.00 | 642.00
67 | 593.00 | 331.00 | 401.00 | 657.00
68 | 595.00 | 337.00 | 406.00 | 657.00
69 | 604.00 | 339.00 | 411.00 | 672.00
70 | 604.00 | 345.00 | 416.00 | 672.00

216.2 Non-Document Service Rates/Groups

Weight not over (lbs.) | Rate group A | Rate group B | Rate group C | Rate group D
0.5 |  |  |  |
1 | 36.00 | 38.00 | 44.00 | 48.00
2 | 41.00 | 45.00 | 51.00 | 55.00
3 | 44.00 | 51.00 | 58.00 | 64.00
4 | 47.00 | 55.00 | 65.00 | 71.00
5 | 50.00 | 60.00 | 72.00 | 78.00
6 | 52.00 | 63.00 | 77.00 | 85.00
7 | 55.00 | 66.00 | 81.00 | 91.00
8 | 57.00 | 71.00 | 86.00 | 98.00
9 | 59.00 | 74.00 | 91.00 | 105.00
10 | 62.00 | 77.00 | 95.00 | 111.00
11 | 64.00 | 80.00 | 100.00 | 116.00
12 | 66.00 | 83.00 | 104.00 | 122.00
13 | 69.00 | 86.00 | 107.00 | 127.00
14 | 71.00 | 88.00 | 111.00 | 132.00
15 | 73.00 | 91.00 | 114.00 | 137.00
16 | 76.00 | 94.00 | 117.00 | 143.00
17 | 78.00 | 97.00 | 121.00 | 148.00
18 | 80.00 | 100.00 | 124.00 | 153.00
19 | 83.00 | 103.00 | 128.00 | 158.00
20 | 87.00 | 107.00 | 131.00 | 165.00
21 | 89.00 | 110.00 | 134.00 | 170.00
22 | 91.00 | 112.00 | 138.00 | 175.00
23 | 93.00 | 115.00 | 141.00 | 180.00
24 | 96.00 | 118.00 | 145.00 | 185.00
25 | 98.00 | 120.00 | 148.00 | 190.00
26 | 100.00 | 122.00 | 153.00 | 195.00
27 | 102.00 | 123.00 | 157.00 | 199.00
28 | 104.00 | 126.00 | 160.00 | 204.00
29 | 106.00 | 128.00 | 163.00 | 209.00
30 | 109.00 | 132.00 | 168.00 | 216.00
31 | 111.00 | 135.00 | 172.00 | 221.00
32 | 113.00 | 137.00 | 175.00 | 226.00
33 | 115.00 | 139.00 | 179.00 | 231.00
34 | 118.00 | 141.00 | 182.00 | 236.00
35 | 120.00 | 143.00 | 185.00 | 241.00
36 | 122.00 | 145.00 | 189.00 | 245.00
37 | 124.00 | 147.00 | 192.00 | 250.00
38 | 126.00 | 149.00 | 196.00 | 255.00
39 | 128.00 | 151.00 | 199.00 | 260.00
40 | 130.00 | 153.00 | 202.00 | 268.00
41 | 132.00 | 155.00 | 206.00 | 273.00
42 | 136.00 | 157.00 | 209.00 | 278.00
43 | 138.00 | 159.00 | 213.00 | 283.00
44 | 140.00 | 160.00 | 216.00 | 288.00
45 | 143.00 | 162.00 | 220.00 | 295.00
46 | 145.00 | 164.00 | 223.00 | 300.00
47 | 147.00 | 165.00 | 226.00 | 305.00
48 | 149.00 | 167.00 | 230.00 | 310.00
49 | 151.00 | 169.00 | 233.00 | 315.00
50 | 152.00 | 172.00 | 239.00 | 320.00
51 | 156.00 | 174.00 | 242.00 | 325.00
52 | 158.00 | 176.00 | 246.00 | 330.00
53 | 160.00 | 178.00 | 249.00 | 335.00
54 | 163.00 | 179.00 | 253.00 | 340.00
55 | 164.00 | 181.00 | 256.00 | 345.00
56 | 166.00 | 182.00 | 260.00 | 350.00
57 | 167.00 | 184.00 | 263.00 | 355.00
58 | 168.00 | 185.00 | 266.00 | 360.00
59 | 170.00 | 187.00 | 270.00 | 365.00
60 | 170.00 | 189.00 | 273.00 | 370.00
61 | 172.00 | 193.00 | 277.00 | 375.00
62 | 173.00 | 194.00 | 280.00 | 379.00
63 | 174.00 | 196.00 | 284.00 | 384.00
64 | 175.00 | 197.00 | 287.00 | 389.00
65 | 176.00 | 199.00 | 291.00 | 394.00
66 | 177.00 | 200.00 | 294.00 | 399.00
67 | 178.00 | 202.00 | 297.00 | 404.00
68 | 179.00 | 204.00 | 301.00 | 409.00
69 | 180.00 | 205.00 | 304.00 | 414.00
70 | 181.00 | 206.00 | 308.00 | 419.00

Weight not over (lbs.) | Rate group E | Rate group F | Rate group G | Rate group H
0.5 | 59.00 | 52.00 | 55.00 | 82.00
1 | 59.00 | 52.00 | 55.00 | 82.00
2 | 72.00 | 60.00 | 58.00 | 96.00
3 | 86.00 | 67.00 | 63.00 | 109.00
4 | 100.00 | 73.00 | 70.00 | 120.00
5 | 113.00 | 80.00 | 77.00 | 134.00
6 | 126.00 | 85.00 | 84.00 | 146.00
7 | 138.00 | 91.00 | 91.00 | 158.00
8 | 150.00 | 96.00 | 98.00 | 170.00
9 | 163.00 | 101.00 | 105.00 | 182.00
10 | 177.00 | 107.00 | 112.00 | 190.00
11 | 187.00 | 112.00 | 118.00 | 206.00
12 | 197.00 | 116.00 | 123.00 | 218.00
13 | 207.00 | 120.00 | 129.00 | 230.00
14 | 217.00 | 124.00 | 134.00 | 241.00
15 | 229.00 | 131.00 | 139.00 | 253.00
16 | 238.00 | 135.00 | 144.00 | 264.00
17 | 246.00 | 139.00 | 149.00 | 275.00
18 | 253.00 | 143.00 | 155.00 | 286.00
19 | 261.00 | 147.00 | 161.00 | 297.00
20 | 268.00 | 151.00 | 167.00 | 308.00
21 | 275.00 | 154.00 | 173.00 | 317.00
22 | 283.00 | 158.00 | 178.00 | 326.00
23 | 290.00 | 162.00 | 183.00 | 333.00
24 | 298.00 | 166.00 | 188.00 | 340.00
25 | 305.00 | 170.00 | 193.00 | 348.00
26 | 313.00 | 174.00 | 198.00 | 355.00
27 | 320.00 | 178.00 | 203.00 | 362.00
28 | 328.00 | 182.00 | 208.00 | 370.00
29 | 335.00 | 186.00 | 213.00 | 377.00
30 | 346.00 | 192.00 | 218.00 | 388.00
31 | 353.00 | 196.00 | 223.00 | 396.00
32 | 361.00 | 200.00 | 228.00 | 403.00
33 | 368.00 | 204.00 | 233.00 | 411.00
34 | 376.00 | 208.00 | 238.00 | 418.00
35 | 384.00 | 212.00 | 243.00 | 431.00
36 | 391.00 | 216.00 | 248.00 | 438.00
37 | 399.00 | 220.00 | 253.00 | 446.00
38 | 406.00 | 224.00 | 258.00 | 453.00
39 | 413.00 | 228.00 | 263.00 | 460.00
40 | 419.00 | 232.00 | 268.00 | 468.00
41 | 426.00 | 236.00 | 273.00 | 475.00
42 | 433.00 | 240.00 | 278.00 | 483.00
43 | 440.00 | 244.00 | 283.00 | 490.00
44 | 447.00 | 248.00 | 288.00 | 498.00
45 | 454.00 | 252.00 | 293.00 | 505.00
46 | 461.00 | 256.00 | 298.00 | 507.00
47 | 467.00 | 260.00 | 303.00 | 515.00
48 | 474.00 | 264.00 | 308.00 | 522.00
49 | 481.00 | 268.00 | 313.00 | 530.00
50 | 493.00 | 274.00 | 318.00 | 543.00
51 | 498.00 | 276.00 | 323.00 | 558.00
52 | 505.00 | 282.00 | 328.00 | 558.00
53 | 512.00 | 286.00 | 333.00 | 574.00
54 | 519.00 | 290.00 | 338.00 | 574.00
55 | 526.00 | 293.00 | 343.00 | 587.00
56 | 533.00 | 298.00 | 348.00 | 587.00
57 | 540.00 | 301.00 | 353.00 | 599.00
58 | 546.00 | 306.00 | 358.00 | 599.00
59 | 553.00 | 309.00 | 363.00 | 612.00
60 | 560.00 | 314.00 | 368.00 | 612.00
61 | 567.00 | 317.00 | 373.00 | 627.00
62 | 573.00 | 323.00 | 378.00 | 627.00
63 | 581.00 | 325.00 | 383.00 | 642.00
64 | 584.00 | 331.00 | 388.00 | 642.00
65 | 595.00 | 333.00 | 393.00 | 657.00
66 | 595.00 | 339.00 | 398.00 | 657.00
67 | 606.00 | 341.00 | 403.00 | 672.00
68 | 608.00 | 347.00 | 408.00 | 672.00
69 | 617.00 | 349.00 | 413.00 | 687.00
70 | 617.00 | 355.00 | 418.00 | 687.00

* * * * *

Stanley F. Mires,
Chief Counsel, Legislative.

[FR Doc. 00-31358 Filed 12-8-00; 8:45 am]

BILLING CODE 7710-12-P